DEPARTMENT OF TRANSPORTATION

Federal Aviation Administration

14 CFR Part 73

[Docket No. FAA-2020-0610; Airspace Docket No. 19-ANE-1]

RIN 2120-AA66

Subdivision of Restricted Area R-4101; Camp Edwards, MA

AGENCY: Federal Aviation Administration (FAA), DOT.

ACTION: Final rule.

SUMMARY: This action modifies restricted area R-4101 at Camp Edwards, MA, by vertically subdividing the area into R-4101A, R-4101B, and R-4101C. Currently, R-4101 extends from the surface to 9,000 feet MSL. The FAA is taking this action to allow for more efficient use of the airspace during periods when military activities do not require the full vertical extent of restricted area R-4101. The modifications are fully contained within the existing lateral and vertical limits of R-4101. The activities conducted in the airspace are unchanged.

DATES: Effective date: 0901 UTC, November 5, 2020.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority since it vertically subdivides the restricted airspace at Camp Edwards, MA, into three sections to enable more efficient use of airspace.

Background

Restricted area R-4101 at Camp Edwards, MA, currently extends from the surface to 9,000 feet MSL. The time of designation for the area is “From 0600 to 1800 local time, daily, or other times as specified by NOTAM issued 48 hours in advance.”

An FAA review of the utilization reports for R-4101 revealed that most activities being conducted only require restricted airspace up to 2,500 feet MSL. Less frequent activities are conducted that require restricted airspace up to 5,000 feet MSL, and 9,000 feet MSL, respectively.

To provide for more efficient use of airspace, the FAA and the using agency agreed to subdivide R-4101 vertically into three areas: R-4101A extending from the surface to but not including 2,500 feet MSL; R-4101B extending from 2,500 feet MSL to but not including 5,000 feet MSL; and R-4101C extending from 5,000 feet MSL to 9,000 feet MSL. The new configuration enables activation of restricted airspace to the lower altitude required for the majority of the using agency's training needs while maintaining the ability to activate additional restricted airspace for missions that require higher altitudes.

These changes will accommodate the using agency's requirements while releasing unneeded restricted airspace for access by other users. The lateral boundaries of the restricted airspace, the overall vertical limits, and the activities conducted within the airspace are unchanged.

The Rule

This rule amends Title 14 Code of Federal Regulations (14 CFR) part 73 by subdividing the R-4101 at Camp Edwards, MA, into three areas: R-4101A extending from the surface to but not including 2,500 feet MSL; R-4101B extending from 2,500 feet MSL to but not including 5,000 feet MSL; and R-4101C extending from 5,000 feet MSL to 9,000 feet MSL. The time of designation for R-4101A and B remains the same as currently designated for R-4101: “From 0600 to 1800 local time, daily, or other times as specified by NOTAM issued 48 hours in advance.” The time of designation for R-4101C, due to its less frequent utilization, is “By NOTAM issued 48 hours in advance.” The changes are fully contained within the existing lateral and vertical dimensions of R-4101, and the activities conducted within the restricted areas are unchanged.

These changes enhance the efficient use of the National Airspace System by providing for: Activation of the minimum amount of restricted airspace needed for the specific mission being conducted; releasing unneeded restricted airspace for access by other users; and, more clearly informing the public of when to expect activation of the restricted airspace.

In addition, the modifications do not change the current lateral boundaries, overall designated altitudes, or activities conducted within the restricted areas; therefore, I find that notice and public procedure under 5 U.S.C. 553(b) are unnecessary.

Regulatory Notices and Analyses

The FAA has determined that this action only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying restricted area R-4101 at Camp Edwards, MA, by vertically subdividing the area into R-4101A, R-4101B, and R-4101C, qualifies for categorical exclusion under the National Environmental Policy Act (NEPA) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). This action also qualifies for FAA categorical exclusion under paragraph 5-6.5d, which categorically excludes from further environmental impact review “Modification of the technical description of special use airspace (SUA) that does not alter the dimensions, altitudes, or times of designation of the airspace (such as changes in designation of the controlling or using agency, or correction of typographical errors).” As such, this action is not expected to result in any potentially significant environmental impacts. A separate categorical exclusion declaration document citing the applicability of FAA categorical exclusion 5-6.5d was signed on May 21, 2020. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73. 41 [Amended]

2. § 73.41 is amended as follows:

* * * * *

R-4101 Camp Edwards, MA [Removed]

R-4101A Camp Edwards, MA [New]

Boundaries. Beginning at lat. 41°40′52″ N, long. 70°33′07″ W; to lat. 41°41′01″ N, long. 70°33′58″ W; to lat. 41°41′58″ N, long. 70°34′56″ W; to lat. 41°42′52″ N, long. 70°34′56″ W; to lat. 41°43′52″ N, long. 70°34′30″ W; to lat. 41°44′30″ N, long. 70°34′14″ W; to lat. 41°45′17″ N, long. 70°34′11″ W; to lat. 41°45′12″ N, long. 70°33′59″ W; to lat. 41°46′07″ N, long. 70°33′02″ W; to lat. 41°45′18″ N, long. 70°31′16″ W; to lat. 41°44′37″ N, long. 70°30′40″ W; to lat. 41°44′11″ N, long. 70°29′38″ W; to lat. 41°43′06″ N, long. 70°30′06″ W; to lat. 41°43′07″ N, long. 70°30′34″ W; to lat. 41°42′45″ N, long. 70°30′48″ W; to lat. 41°42′38″ N, long. 70°30′31″ W; to lat. 41°41′51″ N, long. 70°30′50″ W; to lat. 41°41′38″ N, long. 70°31′16″ W; to lat. 41°41′20″ N, long. 70°31′27″ W; to lat. 41°41′18″ N, long. 70°31′24″ W; to lat. 41°41′06″ N, long. 70°31′52″ W; to the point of beginning.

Designated Altitudes. Surface to but not including 2,500 feet MSL.

Times of designation. From 0600 to 1800 local time, daily, or other times as specified by NOTAM issued 48 hours in advance.

Controlling agency. FAA, Boston Approach Control.

Using agency. Commander, U.S. Army Garrison, Camp Edwards, MA.

R-4101B Camp Edwards, MA [New]

Boundaries. Beginning at lat. 41°40′52″ N, long. 70°33′07″ W; to lat. 41°41′01″ N, long. 70°33′58″ W; to lat. 41°41′58″ N, long. 70°34′56″ W; to lat. 41°42′52″ N, long. 70°34′56″ W; to lat. 41°43′52″ N, long. 70°34′30″ W; to lat. 41°44′30″ N, long. 70°34′14″ W; to lat. 41°45′17″ N, long. 70°34′11″ W; to lat. 41°45′12″ N, long. 70°33′59″ W; to lat. 41°46′07″ N, long. 70°33′02″ W; to lat. 41°45′18″ N, long. 70°31′16″ W; to lat. 41°44′37″ N, long. 70°30′40″ W; to lat. 41°44′11″ N, long. 70°29′38″ W; to lat. 41°43′06″ N, long. 70°30′06″ W; to lat. 41°43′07″ N, long. 70°30′34″ W; to lat. 41°42′45″ N, long. 70°30′48″ W; to lat. 41°42′38″ N, long. 70°30′31″ W; to lat. 41°41′51″ N, long. 70°30′50″ W; to lat. 41°41′38″ N, long. 70°31′16″ W; to lat. 41°41′20″ N, long. 70°31′27″ W; to lat. 41°41′18″ N, long. 70°31′24″ W; to lat. 41°41′06″ N, long. 70°31′52″ W; to the point of beginning.

Designated Altitudes. 2,500 feet MSL to but not including 5,000 feet MSL.

Times of designation. From 0600 to 1800 local time, daily, or other times as specified by NOTAM issued 48 hours in advance.

Controlling agency. FAA, Boston Approach Control.

Using agency. Commander, U.S. Army Garrison, Camp Edwards, MA.

R-4101C Camp Edwards, MA [New]

Boundaries. Beginning at lat. 41°40′52″ N, long. 70°33′07″ W; to lat. 41°41′01″ N, long. 70°33′58″ W; to lat. 41°41′58″ N, long. 70°34′56″ W; to lat. 41°42′52″ N, long. 70°34′56″ W; to lat. 41°43′52″ N, long. 70°34′30″ W; to lat. 41°44′30″ N, long. 70°34′14″ W; to lat. 41°45′17″ N, long. 70°34′11″ W; to lat. 41°45′12″ N, long. 70°33′59″ W; to lat. 41°46′07″ N, long. 70°33′02″ W; to lat. 41°45′18″ N, long. 70°31′16″ W; to lat. 41°44′37″ N, long. 70°30′40″ W; to lat. 41°44′11″ N, long. 70°29′38″ W; to lat. 41°43′06″ N, long. 70°30′06″ W; to lat. 41°43′07″ N, long. 70°30′34″ W; to lat. 41°42′45″ N, long. 70°30′48″ W; to lat. 41°42′38″ N, long. 70°30′31″ W; to lat. 41°41′51″ N, long. 70°30′50″ W; to lat. 41°41′38″ N, long. 70°31′16″ W; to lat. 41°41′20″ N, long. 70°31′27″ W; to lat. 41°41′18″ N, long. 70°31′24″ W; to lat. 41°41′06″ N, long. 70°31′52″ W; to the point of beginning.

Designated Altitudes. 5,000 feet MSL to 9,000 feet MSL.

Times of designation. By NOTAM issued 48 hours in advance.

Controlling agency. FAA, Boston Approach Control.

Using agency. Commander, U.S. Army Garrison, Camp Edwards, MA.

* * * * *

Issued in Washington, DC, on August 28, 2020.
Scott M. Rosenbloom,
Acting Manager, Rules and Regulations Group.

[FR Doc. 2020-19467 Filed 9-15-20; 8:45 am]

BILLING CODE 4910-13-P